SMALL BUSINESS ADMINISTRATION

[Disaster Declaration #14609; Disaster #CA-00243]

California; Declaration of Economic Injury

AGENCY: U.S. Small Business Administration.

ACTION: Amendment 1.

SUMMARY: This is an amendment of an Economic Injury Disaster Loan (EIDL) declaration for the State of California, dated 02/02/2016.

Incident: Ocean Conditions Resulting in the Delayed Commercial Dungeness Crab Season and Closure of Commercial Rock Crab Fishery.

Incident Period: 11/06/2015 and continuing.

Effective Date: 02/10/2016.

Eidl Loan Application Deadline Date: 11/02/2016.

ADDRESSES: Submit completed loan applications to: U.S. Small Business Administration, Processing and Disbursement Center,14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of an Economic Injury declaration for the State of California dated 02/02/2016, is hereby amended to include the following areas as adversely affected by the disaster.

Primary Counties: Monterey, Santa Barbara, Santa Clara, Ventura.

Contiguous Counties:

California: Fresno, Los Angeles, Merced.

All other information in the original declaration remains unchanged.

(Catalog of Federal Domestic Assistance Number 59008)

Dated: February 10, 2016.
Maria Contreras-Sweet,
Administrator.

[FR Doc. 2016-03768 Filed 2-22-16; 8:45 am]

BILLING CODE 8025-01-P